DEPARTMENT OF TRANSPORTATION

Federal Aviation Administration

14 CFR Part 39

[Docket No. FAA-2013-0383; Directorate Identifier 2013-CE-008-AD; Amendment 39-17498; AD 2013-13-10]

RIN 2120-AA64

Airworthiness Directives; Pilatus Aircraft Ltd. Airplanes

AGENCY: Federal Aviation Administration (FAA), Department of Transportation (DOT).

ACTION: Final rule.

SUMMARY: We are adopting a new airworthiness directive (AD) for all PILATUS Aircraft Ltd. Model PC-7 airplanes. This AD results from mandatory continuing airworthiness information (MCAI) issued by an aviation authority of another country to identify and correct an unsafe condition on an aviation product. The MCAI describes the unsafe condition as a need to incorporate new revisions into the Limitations section of the FAA-approved maintenance program (e.g., maintenance manual). The limitations were revised to include an emergency fuel control system adjustment test. We are issuing this AD to require actions to address the unsafe condition on these products.

DATES: This AD is effective August 14, 2013.

The Director of the Federal Register approved the incorporation by reference of certain publications listed in the AD as of August 14, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact PILATUS AIRCRAFT LTD., Customer Technical Support (MCC), P.O. Box 992, CH-6371 STANS, Switzerland; telephone: +41 (0)41 619 67 74; fax: +41 (0)41 619 67 73; Internet: http://www.pilatus-aircraft.com or email: Techsupport@pilatus-aircraft.com. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to include an AD that would apply to the specified products. The NPRM was published in the Federal Register on April 26, 2013 (78 FR 24689). The NPRM proposed to correct an unsafe condition for the specified products. The MCAI states:

This Airworthiness Directive (AD) is prompted by changes to the Airworthiness Limitations Section (ALS) of the Aircraft Maintenance Manual (AMM), which adds life-limits, revises life-limits or adds inspections not previously identified.

These documents include the maintenance instructions and/or airworthiness limitations developed by Pilatus Aircraft Ltd. and approved by FOCA. Failure to comply with these instructions and limitations could potentially lead to unsafe condition.

Pilatus Aircraft Ltd. published Pilatus PC-7 AMM report no. 01715 revision 31 dated 30 November 2012 to incorporate a 300 Flight Hour (FH) hour inspection on the Emergency Fuel Control System (FCS).

For the reason described above, this AD requires the implementation and the compliance with this new maintenance requirement.

You may obtain further information by examining the MCAI in the AD docket.

Comments

We gave the public the opportunity to participate in developing this AD. We received no comments on the NPRM (78 FR 24689, April 26, 2013) or on the determination of the cost to the public.

Conclusion

We reviewed the relevant data and determined that air safety and the public interest require adopting the AD as proposed except for minor editorial changes. We have determined that these minor changes:

• Are consistent with the intent that was proposed in the NPRM (78 FR 24689, April 26, 2013) for correcting the unsafe condition; and

• Do not add any additional burden upon the public than was already proposed in the NPRM (78 FR 24689, April 26, 2013).

Costs of Compliance

We estimate that this AD will affect 15 products of U.S. registry. We also estimate that it will take about 1 work-hour per product to comply with the basic requirements of this AD. The average labor rate is $85 per work-hour. Required parts will cost about $10 per product.

Based on these figures, we estimate the cost of this AD on U.S. operators to be $1,425, or $95 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM (78 FR 24689, April 26, 2013), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-13-10 Pilatus Aircraft Ltd.: Amendment 39-17498; Docket No. FAA-2013-0383; Directorate Identifier 2013-CE-008-AD.

(a) Effective Date

This airworthiness directive (AD) becomes effective August 14, 2013.

(b) Affected ADs

None.

(c) Applicability

This AD applies to PILATUS Aircraft Ltd. Model PC-7 airplanes, all serial numbers, certificated in any category.

(d) Subject

Air Transport Association of America (ATA) Code 76: Engine Controls.

(e) Reason

This AD was prompted by mandatory continuing airworthiness information (MCAI) originated by an aviation authority of another country to identify and correct an unsafe condition on an aviation product. The MCAI describes the unsafe condition as a need to incorporate new revisions into the Limitations section of the FAA-approved maintenance program (e.g., maintenance manual). The limitations were revised to include an emergency fuel control system adjustment test. We are issuing this AD to ensure the continued operational safety of the affected airplanes.

(f) Actions and Compliance

Unless already done, do the following actions as specified in paragraphs (f)(1) and (f)(2) of this AD:

(1) Within the next 90 days after August 14, 2013 (the effective date of this AD) and repetitively thereafter at intervals not to exceed 300 hours time-in-service, do the Emergency Fuel Control System-Adjustment/Test following the Functional Test Procedures on pages 501 and 502 of Section 76-20-00, Emergency Fuel Control System, of Chapter 76, Engine Controls, dated November 30, 2010, found in PILATUS PC-7 Turbo Trainer Aircraft Maintenance Manual, Document No. 01715, Revision 27 USA, dated November 30, 2010.

Note 1 to paragraph (f)(1) of this AD: Federal Office of Civil Aviation of Switzerland AD No. HB-2013-003, dated April 2, 2013, requires inserting, in its entirety, the revised Chapter/Section 05-10-20, Time Limited Inspection Requirements, of PILATUS PC-7 Turbo Trainer Aircraft Maintenance Manual, Document No. 01715, Revision 31, dated November 30, 2012, into the Limitations section of the aircraft maintenance manual. However, only the section referring to Chapter 76—Engine Controls found on page 4 of the revised Chapter 5 pertains to the requirements of this AD. Other chapters in the revised Chapter 5 are covered in other AD actions.

(2) As a result of the functional test required in paragraph (f)(1) of this AD, if a discrepancy is found that is not identified in the document listed in paragraph (f)(1) of this AD, before further flight after finding the discrepancy, contact Pilatus Aircraft Ltd. at the address specified in paragraph (i)(3) of this AD for an FAA-approved repair scheme approved specifically for compliance with this AD and incorporate the repair.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to Federal Office of Civil Aviation (FOCA) AD HB-2013-003, dated March 19, 2013, which can be found in the AD docket on the Internet at http://www.regulations.gov, and PILATUS PC-7 Maintenance Manual, Time Limited Inspection Requirements, 50-10-20, pages 1 through 6, dated November 30, 2012, which can be obtained from the manufacturer at the address specified in paragraph (i)(3) of this AD, for related information.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Emergency Fuel Control System-Adjustment/Test, pages 501 and 502 of Section 76-20-00, Emergency Fuel Control System, of Chapter 76, Engine Controls, dated November 30, 2010, found in PILATUS PC-7 Turbo Trainer Aircraft Maintenance Manual (AFM), Document No. 01715, Revision 27 USA, dated November 30, 2010.

Note 2 to paragraph (i)(2)(i) of this AD: The correct revision level for the AFM is only indicated on page 1 of the Publication Transmittal Letter.

(ii) Reserved.

(3) For PILATUS Aircraft Ltd. service information identified in this AD, contact PILATUS AIRCRAFT LTD., Customer Technical Support (MCC), P.O. Box 992, CH-6371 STANS, Switzerland; telephone: +41 (0)41 619 67 74; fax: +41 (0)41 619 67 73; Internet: http://www.pilatus-aircraft.com or email: Techsupport@pilatus-aircraft.com.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 24, 2013.
John Colomy,
Acting Manager, Small Airplane Directorate, Aircraft Certification Service.

[FR Doc. 2013-15532 Filed 7-9-13; 8:45 am]

BILLING CODE 4910-13-P